DEPARTMENT OF AGRICULTURE

Agricultural Marketing Service

7 CFR Part 984

[Doc. No. AMS-SC-21-0067; SC20-984-3 CR]

Walnuts Grown in California; Continuance Referendum

AGENCY: Agricultural Marketing Service, Department of Agriculture (USDA).

ACTION: Referendum order.

SUMMARY: This document directs that a referendum be conducted among eligible California walnut growers to determine whether they favor continuance of the marketing order regulating the handling of walnuts grown in California.

DATES: The referendum will be conducted from December 6 through December 31, 2021. To vote in this referendum, growers must have produced walnuts in California during the period September 1, 2020, through August 31, 2021.

ADDRESSES: Copies of the marketing order may be obtained from the office of the referendum agents at 1220 SW 3rd Avenue, Suite 305, Portland, OR 97204; Telephone: (503) 326-2724; or the Office of the Docket Clerk, Marketing Order and Agreement Division, Specialty Crops Program, AMS, USDA, 1400 Independence Avenue SW, STOP 0237, Washington, DC 20250-0237; Telephone: (202) 720-2491; or on the internet at https://www.regulations.gov.

FOR FURTHER INFORMATION CONTACT: Joshua R. Wilde or Gary D. Olson, Northwest Marketing Field Office, Marketing Order and Agreement Division, Specialty Crops Program, AMS, USDA, 1220 SW 3rd Avenue, Suite 305, Portland, OR 97204; Telephone: (503) 326-2724, or Email: Joshua.R.Wilde@usda.gov or GaryD.Olson@usda.gov.

SUPPLEMENTARY INFORMATION: Pursuant to Marketing Agreement and Order No. 984, as amended (7 CFR part 984), hereinafter referred to as the “Order,” and applicable provisions of the Agricultural Marketing Agreement Act of 1937, as amended (7 U.S.C. 601-674), hereinafter referred to as the “Act,” it is hereby directed that a referendum be conducted to ascertain whether continuance of the Order is favored by the growers. The referendum shall be conducted from December 6 to December 31, 2021, among eligible California walnut growers. Only growers that were engaged in the production of walnuts in California during the period September 1, 2020, through August 31, 2021, may participate in the continuance referendum.

USDA has determined that continuance referenda are an effective means for determining whether growers favor continuation of marketing order programs. The Order will continue in effect if at least two-thirds of growers voting in the referendum, or growers of at least two-thirds of the volume of California walnuts represented in the referendum, favor continuance. In evaluating merits of continuance versus termination, USDA will not exclusively consider results of the continuance referendum. USDA will also consider all other relevant information concerning the operation of the Order and relative benefits and disadvantages to growers, handlers, and consumers in order to determine whether continued operation of the Order would tend to effectuate the declared policy of the Act.

In accordance with the Paperwork Reduction Act of 1995 (44 U.S.C. Chapter 35), the ballots used in the referendum have been approved by the Office of Management and Budget (OMB) and have been assigned OMB No. 0581-0178—Vegetable and Specialty Crops. It has been estimated that it will take an average of 20 minutes for each of the approximately 4,400 growers of California walnuts to cast a ballot. Participation is voluntary. Ballots postmarked after December 31, 2021, will not be included in the vote tabulation.

Joshua R. Wilde and Gary D. Olson of the Northwest Marketing Field Office, Specialty Crops Program, Agricultural Marketing Service (AMS), USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 through 900.407).

Ballots will be mailed to all growers of record and may also be obtained from the referendum agents or from their appointees.

List of Subjects in 7 CFR Part 984

Marketing agreements, Nuts, Reporting and recordkeeping requirements, Walnuts.

Authority: 7 U.S.C. 601-674.

Erin Morris,
Associate Administrator, Agricultural Marketing Service.

[FR Doc. 2021-22312 Filed 10-12-21; 8:45 am]

BILLING CODE P